DEPARTMENT OF THE INTERIOR

Assistant Secretary—Policy, Management and Budget; Performance Review Board Appointments

AGENCY: Assistant Secretary—Policy, Management and Budget, Interior.

ACTION: Notice of appointments.

SUMMARY: This notice provides the names of individuals who have been appointed to serve as members of the Department of the Interior Performance Review Board. The Departmental Performance Review Board considers the initial rating and award recommendations for all Senior Executive Service members for the Department of the Interior.

EFFECTIVE DATE: These nominations are effective on December 8, 2004.

FOR FURTHER INFORMATION CONTACT: Sandra Streets, Acting Director, Office of Human Resources, Office of the Secretary, Department of the Interior, 1849 C Street, NW., Washington, DC 20240; telephone: (202) 208-6761.

SUPPLEMENTARY INFORMATION: The purpose of the Departmental Performance Review Board is to consider the initial rating and award recommendations; review all documentation, including any written response by the executive being rated and any comments provided by a higher-level reviewer; conduct whatever additional review it deems necessary; and make written recommendations to the appropriate appointing authority regarding final performance ratings of record and the awarding of performance bonuses, Secretary's executive leadership awards, and performance-based pay rate adjustments. Assistant Secretaries/Equivalent Officials nominate Senior Executive Service members in their organizations each year to serve on the Performance Review Board. The Executive Resources Board makes final selection of members. Appointment to the Performance Review Board is for one year, which is renewable.

The Department has appointed the following individuals to serve on the Department of the Interior 2004 Performance Review Board:

Marti Allbright, Director, Take Pride in America

Karen Baker, Deputy Chief, Office of Administrative Policy and Services

K. Lynn Bennett, State Director, Idaho

Robert Bennett, State Director, Wyoming

Elaine Brong, State Director, Oregon

Robert Brown, Associate Director for Administration and Budget

Melvin Burch, Regional Fiduciary Trust Administrator

Chad Calvert, Deputy Assistant Secretary—Land and Minerals Management

Scott Cameron, Deputy Assistant Secretary for Performance, Accountability and Human Resources

Debbie Clark, Deputy Assistant Secretary—Indian Affairs

David Cohen, Deputy Assistant Secretary for Insular Affairs

Lucy Q. Denett, Associate Director for Minerals Revenue Management

Lawrence Finfer, Deputy Director, Office of Policy Analysis

Samuel Hamilton, Regional Director—Atlanta

Jeanette Hanna, Regional Director, Eastern Oklahoma

Abraham Haspel, Assistant Deputy Secretary

Pamela Haze, Deputy Director, Office of Budget

Paul Henne, Assistant Director, Business Management and Operations

Paul Hoffman, Deputy Assistant Secretary—Fish and Wildlife and Parks

James Hughes, Deputy Director, Programs and Policy

Fay Iudicello, Director, Office of Executive Secretariat and Regulatory Affairs

Daniel Jorjani, Chief of Staff and Counselor to the Assistant Secretary, Policy, Management and Budget

Christopher Kearney, Deputy Assistant Secretary for Policy and International Affairs

Suzette Kimball, Regional Director, Eastern Region

Ronnie Levine, Assistant Director, Information Resources Management

Mark Limbaugh, Deputy Commissioner (External and Intergovernmental Affairs)

Jane Lyder, Legislative Counselor

Julie MacDonald, Deputy Assistant Secretary—Fish and Wildlife and Parks

Pamela Malam, Regional Geographer—Eastern Region

Robert McKenna, Chief Information Officer

Tom Melius, Assistant Director—External Affairs

Patricia Morrison, Principal Deputy Assistant Secretary—Land and Minerals Management

Donald Murphy, Deputy Director, National Park Service

Michael Nedd, State Director, Eastern States

Wayne Nordwall, Regional Director, Western

Michael Olsen, Counselor to the Assistant Secretary

Fredrick Ore Deputy Director, Operations

Glenda Owens, Deputy Director, Office of Surface Mining

Christopher Oynes, Regional Director, Gulf of Mexico OCS Region

Mamie Parker, Assistant Director—Fisheries and Habitat Conservation

Jason Peltier, Deputy Assistant Secretary—Water and Science

Ernie Quintana, Field Director, Midwest Area (Omaha)

Kirk Rodgers, Regional Director, Mid Pacific Region

Christine Schabacker, Counselor to the Assistant Secretary—Water and Science

Denise Sheehan, Assistant Director—Budget, Planning and Human Resources

Karen Siderelis, Geographic Information Officer

George Skibine, Director, Office of Indian Gaming Management

Stanley Speaks, Regional Director, Northwest

Karen Taylor-Goodrich, Associate Director, Resource and Visitor Protection

Willie Taylor, Director, Office of Environmental Policy Compliance

Barbara Wainman, Chief, Office of Communication

Thomas Weimer, Principal Deputy Assistant Secretary—Water and Science

Kathleen Wheeler, Deputy Chief Human Capital Officer

Dated: November 22, 2004.
Sandra Streets,
Acting Director, Office of Human Resources.

[FR Doc. 04-26912 Filed 12-7-04; 8:45 am]

BILLING CODE 4310-RF-P